DEPARTMENT OF JUSTICE

Antitrust Division

Notice Pursuant to the National Cooperative Research and Production Act of 1993—Advanced Electric Systems & Aerodynamics for Efficiency Improvement in Heavy Duty Trucks

Notice is hereby given that, on June 21, 2005, pursuant to Section 6(a) of the National Cooperative Research and Production Act of 1993, 15 U.S.C. 4301 et seq. (“the Act”), Advanced Electric Systems & Aerodynamics for Efficiency Improvements in Heavy Duty Trucks (“AES”) has filed written notifications simultaneously with the Attorney General and the Federal Trade Commission disclosing (1) the identities of the parties to the venture and (2) the nature and objectives of the venture. The notifications were filed for the purpose of involving the Act's provisions limiting the recovery of antitrust plaintiffs to actual damages under specified circumstances.

Pursuant to Section 6(b) of the Act, the identifies of the parties to the venture are: Caterpillar Inc., Peoria, IL; Emerson Electric Co., St. Louis, MO; and Engineered Machine Products, Inc., Escanaba, MI. The general area of AES's planned activity is to improve the fuel efficiency of heavy-duty trucks while in the “long haul” driving mode through improvements in cooling system performance, air system management, and advanced power management. The activities of this consortium project will be partially funded by an award from the U.S. Department of Energy/National Energy Technology Laboratory.

Dorothy B. Fountain,
Deputy Director of Operations, Antitrust Division.

[FR Doc. 05-13727 Filed 7-12-05; 8:45 am]

BILLING CODE 4410-11-M